DEPARTMENT OF LABOR

Employment and Training Administration

[TA-W-59,176]

East Palestine China Company, East Palestine, OH; Notice of Termination of Investigation

Pursuant to section 221 of the Trade Act of 1974, as amended, an investigation was initiated on April 10, 2006 in response to a worker petition filed by a company official on behalf of workers at East Palestine China Company, East Palestine, Ohio.

The petitioner has requested that the petition be withdrawn. Consequently, the investigation has been terminated.

Signed at Washington, DC, this 11th day of May 2006.
Richard Church,
Certifying Officer, Division of Trade Adjustment Assistance.

[FR Doc. E6-7945 Filed 5-23-06; 8:45 am]

BILLING CODE 4510-30-P